DEPARTMENT OF TRANSPORTATION

National Highway Traffic Safety Administration

[Docket No. NHTSA-2002-11878]

Notice of Receipt of Petitions for Decision that Nonconforming 2001 and 2002 Porsche GT2 Turbo Passenger Cars are Eligible for Importation

AGENCY: National Highway Traffic Safety Administration, DOT.

ACTION: Notice of receipt of petitions for decision that nonconforming 2001 and 2002 Porsche GT2 Turbo passenger cars are eligible for importation.

SUMMARY: This document announces receipt by the National Highway Traffic Safety Administration (NHTSA) of two separate petitions for a decision that 2001 and 2002 Porsche GT2 Turbo passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is May 9, 2002.

ADDRESSES: Comments should refer to the docket number and notice number, and be submitted to: Docket Management, Room PL-401, 400 Seventh St., SW, Washington, DC 20590. [Docket hours are from 9 am to 5 pm].

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Northern California Diagnostic Laboratories, Inc. of Napa, California (“NCDL”) (Registered Importer 92-011) petitioned NHTSA to decide whether 2002 Porsche GT2 Turbo passenger cars are eligible for importation into the United States. Shortly after NCDL's petition was filed, J.K. Technologies, L.L.C. of Baltimore, Maryland (“J.K.”) (Registered Importer 90-006) separately petitioned NHTSA to decide whether 2001 and 2002 Porsche GT2 Turbo passenger cars are eligible for importation. J.K. requested the agency to grant confidentiality to certain information that accompanied its petition. NCDL did not file a confidentiality request. Because the two petitions pertain to the same vehicles (with the exception that the J.K. petition covers two model years and the NCDL petition only one), NHTSA is soliciting comments on both petitions in this notice.

The vehicles that NCDL and J.K. believe are substantially similar are 2001 and 2002 Porsche GT2 Turbo passenger cars that were manufactured for importation into, and sale in, the United States and certified by their manufacturer as conforming to all applicable Federal motor vehicle safety standards.

The petitioners claim that that they have carefully compared non-U.S. certified 2001 and 2002 Porsche GT2 Turbo passenger cars to their U.S.-certified counterparts, and found the vehicles to be substantially similar with respect to compliance with most Federal motor vehicle safety standards.

NCDL and J.K. submitted information with their petitions intended to demonstrate that non-U.S. certified 2001 and 2002 Porsche GT2 Turbo passenger cars, as originally manufactured for sale in Europe, conform to many Federal motor vehicle safety standards in the same manner as their U.S. certified counterparts, or are capable of being readily altered to conform to those standards.

Specifically, the petitioners claim that non-U.S. certified 2001 and 2002 Porsche GT2 Turbo passenger cars are identical to their U.S. certified counterparts with respect to compliance with Standard Nos. 102 Transmission Shift Lever Sequence . . . ., 103 Defrosting and Defogging Systems, 104 Windshield Wiping and Washing Systems, 105 Hydraulic Brake Systems, 106 Brake Hoses, 109 New Pneumatic Tires, 113 Hood Latch Systems, 116 Brake Fluid, 124 Accelerator Control Systems, 135 Passenger Car Brake Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Retention, 214 Side Impact Protection, 216 Roof Crush Resistance, 219 Windshield Zone Intrusion, and 302 Flammability of Interior Materials.

Additionally, NCDL claims that non-U.S. certified 2002 Porsche GT2 Turbo passenger cars are identical to their U.S.-certified counterparts with respect to compliance with Standard Nos. 110 Tire Selection and Rims, 111 Rearview Mirrors, 114 Theft Protection, 208 Occupant Crash Protection, and 301 Fuel System Integrity and with the Bumper Standard found in 49 CFR part 581.

J.K. states that non-U.S certified 2001 and 2002 Porsche GT2 Turbo passenger cars are capable of being readily altered to meet those standards, in the following manner:

Standard No. 110 Tire Selection and Rims: installation of a tire information placard.

Standard No. 111 Rearview Mirrors: replacement of the passenger side rearview mirror with a U.S.-model component, or inscription of the required warning statement on the surface of that mirror.

Standard No. 114 Theft Protection: programming of the warning system to meet the standard.

Standard No. 208 Occupant Crash Protection: inspection of all vehicles and replacement of the driver's and passenger's side air bags, knee bolsters, control units, sensors, and seat belts with U.S.-model components on vehicles that are not already so equipped. J.K. states that the front and rear outboard designated seating positions have combination lap and shoulder belts that are self-tensioning and that release by means of a single red pushbutton. J.K. further states that the vehicles are equipped with a seat belt warning lamp that is identical to the component installed on U.S.-certified models.

Standard No. 301 Fuel System Integrity: modifications for which J.K. has requested confidentiality.

Additionally, J.K. states that the bumpers and support structures on non-U.S. certified 2001 and 2002 Porsche GT2 Turbo passenger cars are identical, in most cases, to those components found on the vehicles' U.S. certified counterparts. J.K. stated, however, that all vehicles must be inspected for part number compliance.

Both petitioners contend that the vehicles are capable of being readily altered to meet the following standards, in the manner indicated:

Standard No. 101 Controls and Displays: replacement of the instrument cluster with U.S.-model components.

Standard No. 108 Lamps, Reflective Devices and Associated Equipment: (a) installation of U.S.-model headlamps and front sidemarker lamps, (b) installation of U.S.-model taillamp assemblies that incorporate rear sidemarker lamps, (c) installation of center high-mounted stop lamp if not already equipped.

Standard No. 118 Power-Operated, Partition, and Roof Panel Systems: modification of the system to comply with the standard.

NCDL claims that non-U.S. certified 2002 Porsche GT2 Turbo passenger cars comply with the parts marking requirements of the Theft Prevention Standard at 49 CFR Part 541. J.K. states that this standard is inapplicable to the 2001 and 2002 versions of the vehicle.

NCDL states that a vehicle identification number (VIN) plate must be affixed to non-U.S. certified 2002 Porsche GT2 Turbo passenger cars to meet the requirements of 49 CFR part 565. J.K. claims that both the 2001 and 2002 versions of the vehicle have a factory installed VIN plate in the windshield area that meets these requirements.

Interested persons are invited to submit comments on the petitions described above. Comments should refer to the docket number and be submitted to: Docket Management, Room PL-401, 400 Seventh St., SW, Washington, DC 20590. [Docket hours are from 9 am to 5 pm]. It is requested but not required that 10 copies be submitted.

All comments received before the close of business on the closing date indicated above will be considered, and will be available for examination in the docket at the above address both before and after that date. To the extent possible, comments filed after the closing date will also be considered. Notice of final action on the petitions will be published in the Federal Register pursuant to the authority indicated below.

Authority: 49 U.S.C. 30141(a)(1)(A) and (b)(1); 49 CFR 593.8; delegations of authority at 49 CFR 1.50 and 501.8.

Issued on: April 3, 2002.
Marilynne Jacobs,
Office of Vehicle Safety Compliance.

[FR Doc. 02-8519 Filed 4-8-02; 8:45 am]

BILLING CODE 4910-59-P